DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Southeast Region Vessel Identification Requirements.

Form Number(s): None.

OMB Approval Number: 0648-0358.

Type of Request: Regular submission.

Burden Hours: 7,331.

Number of Respondents: 9,774.

Average Hours per Response: 45 minutes.

Needs and Uses: The participants in the Federally-regulated Sargassum fishery in the Southeast Region of the United States are required to mark their fishing vessels (port and starboard sides of the deckhouse or hull, and weather deck) with the official identification number or some other form of identification. This identification is necessary to aid fishery enforcement activities and for purposes of gear identification concerning damage, loss, and civil proceedings.

Affected Public: Business or other for-profit organizations.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 16, 2008.
Gwellnar Banks,
Management Analyst, Office of the Chief Information Officer.

[FR Doc. E8-13908 Filed 6-19-08; 8:45 am]

BILLING CODE 3510-22-P